SECURITIES AND EXCHANGE COMMISSION

[Investment Company Act Release No. 35355; File No. 812-15500]

TriplePoint Venture Growth BDC Corp., et al.

October 9, 2024.

AGENCY: Securities and Exchange Commission (“Commission” or “SEC”).

ACTION: Notice.

Notice of application for an order under sections 17(d) and 57(i) of the Investment Company Act of 1940 (the “Act”) and rule 17d-1 under the Act to permit certain joint transactions otherwise prohibited by sections 17(d) and 57(a)(4) of the Act and rule 17d-1 under the Act.

Summary of Application: Applicants request an order to amend a previous order granted by the Commission that permits certain business development companies and closed-end management investment companies to co-invest in portfolio companies with each other and with certain affiliated investment entities.

Applicants: TriplePoint Venture Growth BDC Corp.; TriplePoint Private Venture Credit Inc.; TPVG Variable Funding Company LLC; TPVG Investment LLC; TPVC Funding Company LLC; TPVC Investment LLC; TriplePoint Advisers LLC; TriplePoint Capital LLC; TriplePoint Financial LLC; TPF Funding 1 LLC; TPF Funding 2 LLC; TriplePoint Ventures 5 LLC; TPC Credit Partners 3 LLC; TriplePoint Venture Lending Fund, LLC; and TriplePoint Venture Lending SPV, LLC.

Filing Dates: The application was filed on August 22, 2023, and amended on February 7, 2024, and June 26, 2024.

Hearing or Notification of Hearing: An order granting the requested relief will be issued unless the Commission orders a hearing. Interested persons may request a hearing on any application by emailing the SEC's Secretary at Secretarys-Office@sec.gov and serving the Applicants with a copy of the request by email, if an email address is listed for the relevant Applicant below, or personally or by mail, if a physical address is listed for the relevant Applicant below. Hearing requests should be received by the Commission by 5:30 p.m. on November 4, 2024, and should be accompanied by proof of service on the Applicants, in the form of an affidavit or, for lawyers, a certificate of service. Pursuant to rule 0-5 under the Act, hearing requests should state the nature of the writer's interest, any facts bearing upon the desirability of a hearing on the matter, the reason for the request, and the issues contested. Persons who wish to be notified of a hearing may request notification by emailing the Commission's Secretary at Secretarys-Office@sec.gov.

ADDRESSES: The Commission: Secretarys-Office@sec.gov. Applicants: James P. Labe and Sajal K. Srivastava, TriplePoint Advisers LLC, at jlabe@triplepointcapital.com and sks@triplepointcapital.com, respectively, and Harry S. Pangas, Esq. and Clay Douglas, Esq., Dechert LLP, at harry.pangas@dechert.com and clay.douglas@dechert.com, respectively.

FOR FURTHER INFORMATION CONTACT: Kieran G. Brown, Senior Counsel, or Terri Jordan, Branch Chief, at (202) 551-6825 (Division of Investment Management, Chief Counsel's Office).

SUPPLEMENTARY INFORMATION: For Applicants' representations, legal analysis, and conditions, please refer to Applicants' second amended and restated application, dated June 26, 2024, which may be obtained via the Commission's website by searching for the file number at the top of this document, or for an Applicant using the Company name search field, on the SEC's EDGAR system.

The SEC's EDGAR system may be searched at http://www.sec.gov/edgar/searchedgar/legacy/companysearch.html. You may also call the SEC's Public Reference Room at (202) 551-8090.

For the Commission, by the Division of Investment Management, under delegated authority.
Sherry R. Haywood,
Assistant Secretary.

[FR Doc. 2024-23761 Filed 10-11-24; 8:45 am]

BILLING CODE 8011-01-P